OFFICE OF THE UNITED STATES TRADE REPRESENTATIVE

[Docket Number USTR-2020-0011]

Hearing Cancellation and Extension of Comment Period on Negotiating Objectives for a United States-Republic of Kenya Trade Agreement

AGENCY: Office of the United States Trade Representative.

ACTION: Cancellation of public hearing and extended deadline to submit comments.

SUMMARY: On March 23, 2020, the Office of the U.S. Trade Representative (USTR) solicited comments and announced that the Trade Policy Staff Committee would hold a public hearing on a proposed U.S.-Republic of Kenya trade agreement. Consistent with guidance issued by the Centers for Disease Control and Prevention concerning COVID-19, USTR is cancelling the public hearing. USTR is extending the deadline for written comments.

DATES:

Hearing: The hearing scheduled for April 28, 2020, is cancelled.

Comments: USTR is extending the deadline for written comments until April 28, 2020, and encourages interested persons to file comments and supporting documentation via www.regulations.gov, using docket number USTR-2020-0011. The instructions for submission are in sections II and III of the notice published on March 23, 2020 (85 FR 16450). For alternatives to on-line submissions, please contact Yvonne Jamison at (202) 395-3475 in advance of the deadline and before transmitting a comment.

FOR FURTHER INFORMATION CONTACT: For procedural questions concerning written comments, please contact Yvonne Jamison at (202) 395-3475. Direct all other questions to Alan Treat, Deputy Assistant U.S. Trade Representative for Africa, at (202) 395-9514.

Edward Gresser,
Chair of the Trade Policy Staff Committee, Office of the United States Trade Representative.

[FR Doc. 2020-07743 Filed 4-10-20; 8:45 am]

BILLING CODE 3290-F0-P